SMALL BUSINESS ADMINISTRATION

[Disaster Declaration No. 10222 and No. 10223]

Florida Disaster Number FL-00011

AGENCY: U.S. Small Business Administration.

ACTION: Amendment 3.

SUMMARY: This is an amendment of the Presidential declaration of a major disaster for the State of Florida (FEMA-1609-DR), dated October 24, 2005.

Incident: Hurricane Wilma.

Incident Period: October 23, 2005 and continuing through November 18, 2005.

Effective Date: November 3, 2005.

Physical Loan Application Deadline Date: December 23, 2005.

EIDL Loan Application Deadline Date: July 24, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Florida, dated October 24, 2005, is hereby amended to establish the incident period for this disaster as beginning October 23, 2005 and continuing through November 18, 2005.

All other information in the original declaration remains unchanged.

(Catalog of Federal Domestic Assistance Numbers 59002 and 59008)

Cheri L. Cannon,
Acting Associate Administrator for Disaster Assistance.

[FR Doc. E5-6836 Filed 12-2-05; 8:45 am]

BILLING CODE 8025-01-P